FEDERAL COMMUNICATIONS COMMISSION

47 CFR Part 73

[DA 02-2518, MB Docket No. 02-154, RM-10490]

Television Broadcast Service; Topeka, KS

AGENCY: Federal Communications Commission.

ACTION: Final rule.

SUMMARY: The Commission, at the request of Davis Television Topeka, LLC, substitutes channel 22+ for channel 43 at Topeka, Kansas. See 67 FR 44792, July 15, 2002. TV channel can be allotted to Topeka, Kansas, with a plus offset consistent with the requirements of Section 73.610 at coordinates 39-00-00 N. and 96-07-45 W. With this action, this proceeding is terminated.

DATES: Effective November 25, 2002.

FOR FURTHER INFORMATION CONTACT: Pam Blumenthal, Media Bureau (202) 418-1600.

SUPPLEMENTARY INFORMATION: This is a synopsis of the Commission's Report and Order, MB Docket No. 02-154, adopted October 3, 2002, and released October 10, 2002. The full text of this document is available for public inspection and copying during regular business hours in the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via-e-mail qualexint@aol.com.

List of Subjects in 47 CFR Part 73

Television broadcasting.

Part 73 of Title 47 of the Code of Federal Regulations is amended as follows:

PART 73—[AMENDED]

1. The authority citation for part 73 continues to read as follows:

Authority: 47 U.S.C. 154, 303, 334 and 336.

§ 73.606 [Amended]

2. Section 73.606(b), the Table of Television Allotments under Kansas, is amended by removing TV channel 43 and adding TV channel 22+ at Topeka.

Federal Communications Commission.
Barbara A. Kreisman,
Chief, Video Division, Media Bureau.

[FR Doc. 02-26268 Filed 10-15-02; 8:45 am]

BILLING CODE 6712-01-P